DEPARTMENT OF EDUCATION

[Docket No.: ED-2015-ICCD-0071]

Agency Information Collection Activities; Submission to the Office of Management and Budget for Review and Approval; Comment Request; Evaluation of the Pell Grant Experiments Under the Experimental Sites Initiative

AGENCY: Institute of Education Sciences (IES), Department of Education (ED).

ACTION: Notice.

SUMMARY: In accordance with the Paperwork Reduction Act of 1995 (44 U.S.C. chapter 3501 et seq.), ED is proposing a revision of an existing information collection.

DATES: Interested persons are invited to submit comments on or before September 3, 2015.

ADDRESSES: To access and review all the documents related to the information collection listed in this notice, please use http://wwww.regulations.gov by searching the Docket ID number ED-2015-ICCD-0071. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For specific questions related to collection activities, please contact Daphne Garcia, 202-219-2024.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Pell Grant Experiments Under the Experimental Sites Initiative.

OMB Control Number: 1850-0892.

Type of Review: A revision of an existing information collection.

Respondents/Affected Public: Individuals or Households.

Total Estimated Number of Annual Responses: 3,202.

Total Estimated Number of Annual Burden Hours: 1,066.

Abstract: The Pell Grant Experiments evaluation is a two-part, seven-year demonstration study sponsored by the U.S. Department of Education that focuses on the effects of expanded access to Pell grants on students' educational outcomes, employment and earnings. The primary outcome of interest is (1) educational enrollment and completion, and (2) measures of student debt and financial aid while secondary outcomes include (3) the employment status and earnings of students who participate in the study.

This study consists of two experiments, each of which will examine the impact of a single change to the Pell grant eligibility criteria. The first experiment will relax the prohibition on receipt of Pell grants by students with a bachelors' degree. Individuals eligible for the first experiment must have a bachelor's degree, be unemployed or underemployed, and pursue a vocational training program up to one year in duration. The second experiment will reduce the minimum duration and intensity levels of programs that Pell grant recipients must participate in from 15 weeks with 600 minimum clock hours to 8 weeks with 150 minimum clock hours. Each experiment will operate through a set of PGE schools that provide education and training services that qualify as PGE programs.

Participants in both experiments will be randomly assigned to either (1) a treatment group, which will have expanded access to Pell grants; or (2) a control group, which will not have access. Within both experiments, the treatment group will be very similar to the control at the time of random assignment except for access to Pell grants. Subsequent differences in the employment and earnings outcomes between treatment and control group members can then be attributed to Pell grant access. The first experiment will involve roughly 28 PGE schools with an average of 25 students participating per school. The second experiment will involve roughly 40 PGE schools with an average of 100 participating students per school. The expected sample of both experiments combined is approximately 4,700 students. Data for this evaluation will come from participants' FAFSA applications, PGE school administrative records, and SSA earnings statements. The study participant enrollment period is expected to last from November 2012 to June 2016. A data extracts from FAFSA applications will occur in summer 2015, 2017, and 2018. Administrative data extracts from PGE schools will also occur summer 2015, 2017, and 2018.

Dated: July 30, 2015.
Kate Mullan,
Acting Director, Information Collection Clearance Division, Office of the Chief Privacy Officer, Office of Management.

[FR Doc. 2015-19048 Filed 8-3-15; 8:45 am]

BILLING CODE 4000-01-P